SECURITIES AND EXCHANGE COMMISSION

[File No. 500-1]

In the Matter of Tasty Fries, Inc.; Order of Suspension of Trading

August 17, 2009.

It appears to the Securities and Exchange Commission that there is a lack of current and accurate information concerning the securities of Tasty Fries, Inc. (“Tasty Fries”) because it has not filed any periodic reports since the period ended October 31, 2004.

The Commission is of the opinion that the public interest and the protection of investors require a suspension in the securities of the above listed company.

Therefore, it is ordered, pursuant to Section 12(k) of the Securities Exchange Act of 1934, that trading in the above listed company is suspended from 9:30 a.m. EDT, on August 17, 2009 through 11:59 p.m. EDT on August 28, 2009.

By the Commission.
Elizabeth M. Murphy,
Secretary.

[FR Doc. E9-19981 Filed 8-17-09; 4:15 pm]

BILLING CODE 8010-01-P